DEPARTMENT OF ENERGY

[Docket No. EERE-2007-BT-CRT-0009]

Proposed Agency Information Collection: Energy Conservation Program: Compliance and Certification Information Collection for Electric Motors

AGENCY: Office of Energy Efficiency and Renewable Energy, Department of Energy.

ACTION: Notice and request for comments.

SUMMARY: The U.S. Department of Energy (DOE), pursuant to the Paperwork Reduction Act of 1995, proposes to initiate through the Office of Management and Budget (OMB) the mandatory Compliance Certification information collection request for certain 1 through 200 horsepower electric motors covered under the Energy Policy and Conservation Act (EPCA) as amended, Public Law 94-163, codified at, 42 U.S.C. 6291 et seq. Under EPCA, a manufacturer or private labeler must certify its compliance with energy efficiency standards for certain commercial and industrial electric motors. 42 U.S.C. 6316(c) and 10 CFR 431.36.

DATES: Comments regarding this collection must be received on or before July 6, 2009. If you anticipate that you will be submitting comments, but find it difficult to do so within the period of time allowed by this notice, please call Mr. James Raba at (202) 586-8654.

ADDRESSES: Comments must identify the information collection for electric motors and provide the docket number EERE-2007-BT-CRT-0009. Comments may be submitted using any of the following methods:

• Federal eRulemaking Portal: http://www.regulations.gov. Follow the instructions for submitting comments.

• E-mail: appliance.information@ee.doe.gov. Include the docket number in the subject line of your message.

• Postal Mail: Ms. Brenda Edwards-Jones, U.S. Department of Energy, Building Technologies Program, Mailstop EE-2J, 1000 Independence Avenue, SW., Washington, DC 20585-0121. Telephone: (202) 586-2945. Please submit one signed paper original.

• Hand Delivery/Courier: Ms. Brenda Edwards-Jones, U.S. Department of Energy, Building Technologies Program, 950 L'Enfant Plaza, Sixth Floor, Washington, DC 20024-2123. Please submit one signed original paper copy.

FOR FURTHER INFORMATION CONTACT: Direct requests for additional information or copies of the information collection instrument and instructions to Mr. James Raba, U.S. Department of Energy, Building Technologies Program (EE-2J), 950 L'Enfant Plaza, Washington, DC 20024-2123, (202) 586-8654, jim.raba@ee.doe.gov. In the Office of the General Counsel, contact Ms. Francine Pinto or Mr. Michael Kido, U.S. Department of Energy, Office of the General Counsel, GC-72, 1000 Independence Avenue, SW., Washington, DC 20085. Telephone: (202) 586-9507. E-mail: Francine.Pinto@hq.doe.gov or Michael.Kido@hq.doe.gov.

Authority and Background: EPCA establishes energy efficiency standards and test procedures for certain commercial and industrial equipment, including electric motors, 42 U.S.C. 6291 et seq., and states in relevant part that, “the Secretary [of Energy] shall require manufacturers to certify” that each electric motor meets the applicable efficiency standards. (42 U.S.C. 6316(c)) To achieve this end, EPCA authorizes the Secretary to issue the necessary rules requiring each manufacturer or private labeler of covered electric motors to submit information and reports to ensure compliance. (42 U.S.C. 6316(a)) This directive is carried out under 10 CFR 431.36, Compliance Certification, which requires a manufacturer or private labeler to submit a compliance statement, as well as a certification report that provides energy efficiency information for each basic model of electric motor that it distributes in commerce in the United States.

In view of the above, the information to be collected is the same as the Compliance Certification information, at appendix C to subpart B of 10 CFR part 431, which provides a format for a manufacturer or private labeler to report the energy efficiency of its basic models of electric motors according to rated horsepower or kilowatts, number of poles (speed in revolutions per minute), and open or enclosed construction. Further, it provides a means for a manufacturer or private labeler to certify compliance with the applicable energy efficiency standards prescribed under section 342(b)(1) of EPCA, codified at 42 U.S.C. 6313(b)(1), through an independent testing or certification program nationally recognized in the United States (section 345(c) of the EPCA, codified at 42 U.S.C. 6316(c)). The information contained in the Compliance Certification is a basis for the energy efficiency information marked on the permanent nameplate of an electric motor and thereby enables purchasers to compare the energy efficiencies of similar motors. 10 CFR 431.31 Compliance Certification information facilitates voluntary compliance with and enforcement of the energy efficiency standards established for electric motors under EPCA 342(b)(1), 42 U.S.C. 6313(b)(1).

SUPPLEMENTARY INFORMATION: (1) OMB No.: 1910-NEW. (2) Collection Title: Title 10 Code of Federal Regulations Part 431—Energy Efficiency Program for Certain Commercial and Industrial Equipment: Subpart B—Electric Motors: 10 CFR 431.36, Compliance Certification, and Appendix C to Subpart B of Part 431—Compliance Certification, “Certification of Compliance with Energy Efficiency Standards for Electric Motors.” (3) Type of Review: Reinstatement, without change, of a previously approved collection for which approval has expired. (4) Purpose: The purpose of the collection is two-fold: (1) To require the manufacturer or private labeler of certain commercial or industrial electric motors subject to energy efficiency standards prescribed under section 342(b) of EPCA to establish, maintain, and retain records of its test data and subsequent verification of any alternative efficiency determination method used under 10 CFR part 431, et seq.; and (2) to preclude distribution in commerce of any basic model of commercial or industrial electric motor that is subject to an energy efficiency standard set forth under subpart B of part 431, unless the manufacturer or private labeler of that motor has submitted a Compliance Certification to DOE according to the provisions under 10 CFR 431.36, certifying that the basic model meets the requirements of the applicable standard. This information ensures compliance with the energy efficiency standards for certain commercial and industrial electric motors. (5) Estimated Number of Respondents: There are approximately 100 manufacturers and private labelers that distribute in commerce in the United States electric motors covered under 10 CFR part 431, et seq. (6) Estimated Total Burden Hours: There are approximately 300 total recordkeeping and reporting hours (3 hours per manufacturer or private labeler) at a total annualized cost of approximately $20,000.00 ($200.00 per manufacturer or private labeler). (7) Number of Collections: The request contains one information and recordkeeping requirement for each manufacturer or private labeler.

Comments are invited on (a) whether the information collections are necessary for the proper performance of the functions of DOE, including whether the information has practical utility; (b) the accuracy of DOE's estimate of the burden of the information collections, including the validity of the methodology and assumptions used; (c) ways to enhance the quality, utility, and clarity of the information to be collected; and (d) ways to minimize the burden of the information collections on respondents, including through the use of automated collection techniques or other forms of information technology, such as permitting the electronic submission of responses.

Comments submitted in response to this notice will be summarized and included in the request for OMB review and approval of these information collections. The comments will also become a matter of public record.

Docket: For direct access to the docket to read background documents or comments received, go to the U.S. Department of Energy, 950 L'Enfant Plaza (Resource Room of the Building Technologies Program, Sixth Floor), Washington, DC, between 9 a.m. and 4 p.m., Monday through Friday, except Federal holidays. Please call Ms. Brenda Edwards-Jones at (202) 586-2945 for additional information regarding the Resource Room.

Statutory Authority: 10 CFR part 431.

Issued in Washington, DC on April 21, 2009.
Steven G. Chalk,
Principal Deputy Assistant Secretary, Energy Efficiency and Renewable Energy.

[FR Doc. E9-10157 Filed 5-1-09; 8:45 am]

BILLING CODE 6450-01-P